NATIONAL AERONAUTICS AND SPACE ADMINISTRATION

14 CFR Part 1274

RIN 2700-AD28

NASA Grant and Cooperative Agreement Handbook—Resource Sharing Requirements

AGENCY: National Aeronautics and Space Administration.

ACTION: Final rule.

SUMMARY: This final rule amends the NASA Grant Handbook section, “Resource Sharing Requirements” to add the word percent behind the blanks and add a place to identify the share dollars for the funding and non-cash contributions by both parties.

DATES: Effective Date: This final rule is effective August 31, 2006.

FOR FURTHER INFORMATION CONTACT: Jamiel C. Commodore, NASA, Office of Procurement, Contract Management Division; (202) 358-0302; e-mail: Jamiel.C.Commodore@nasa.gov.

SUPPLEMENTARY INFORMATION:

A. Background

The NASA Grant Handbook at § 1274.904 identifies how NASA and a Cooperative Agreement recipient will share in providing the resources necessary to perform a cooperative agreement. Currently, the provision contains two blanks that do not identify the unit of measure associated with the blanks and does not provide a space for the associated dollar amounts. This final rule makes the corrective editorial changes.

B. Regulatory Flexibility Act

NASA certifies that this final rule will not have a significant economic impact on a substantial number of small entities within the meaning of the Regulatory Flexibility Act, 5 U.S.C. 601 et seq., because the changes merely make editorial corrections to existing coverage in the Grant Handbook.

C. Paperwork Reduction Act

The Paperwork Reduction Act does not apply because this rule does not impose any new recordkeeping or information collection requirements, or collection of information from offerors, contractors, or members of the public that require the approval of the Office of Management and Budget under 44 U.S.C. 3501, et seq.

List of Subjects in 14 CFR Part 1274

Grant programs—science and technology.

Tom Luedtke,
Assistant Administrator for Procurement.

Accordingly, 14 CFR part 1274 is amended as follows:

1. The authority citation for 14 CFR part 1274 continues to read as follows:

Authority: 31 U.S.C. 6301 to 6308; 42 U.S.C. 2451 et seq.

PART 1274—COOPERATIVE AGREEMENTS WITH COMMERCIAL FIRMS

2. Amend § 1274.904 by revising paragraph (a), redesignating paragraph (b) as (c), and adding new paragraph (b) to read as follows:

§ 1274.904 Resource Sharing Requirements.

Resource Sharing Requirements

AUGUST 2006

* * * * *

(a) NASA and the Recipient will share in providing the resources necessary to perform the agreement. NASA funding and non-cash contributions (personnel, equipment, facilities, etc.) and the dollar value of the Recipient's cash and/or non-cash contribution will be on a _ percent (NASA)—_ percent (Recipient) basis. Criteria and procedures for the allowability and allocability of cash and non-cash contributions shall be governed by FAR Parts 30 and 31, and NFS Parts 1830 and 1831.

(b) The funding and non-cash contributions by both parties are represented by the following dollar amounts:

Government Share

Recipient Share

Total Amount

(c) The Recipient's share shall not be charged to the Government under this Agreement or under any other contract, grant, or cooperative agreement, except to the extent that the Recipient's contribution may be allowable IR&D costs pursuant to FAR 31.205-18(e).

[FR Doc. 06-7362 Filed 8-30-06; 8:45 am]

BILLING CODE 7510-01-P